DEPARTMENT OF TRANSPORTATION

Federal Motor Carrier Safety Administration

[Docket No. FMCSA-2023-0185]

Commercial Driver's License: State of Hawaii; Application for Exemption

AGENCY: Federal Motor Carrier Safety Administration (FMCSA), Department of Transportation (DOT).

ACTION: Notice of final disposition; grant of application for exemption.

SUMMARY: FMCSA announces its decision to grant an exemption to the State of Hawaii allowing the State to waive specific portions of the commercial driver's license (CDL) skills test for CDL applicants who take the skills test on the islands of Lanai and Molokai and issue these drivers a restricted CDL. The Agency grants this exemption because the islands of Lanai and Molokai do not have the highway infrastructure to support a demonstration of certain on-road safe driving skills required by the CDL skills test requirements. FMCSA concludes that granting the exemption, subject to the terms and conditions set forth below is likely to maintain a level of safety equivalent to or greater than the level of safety that would be maintained absent the exemption.

DATES: The exemption is effective from February 20, 2024 through February 20, 2026.

FOR FURTHER INFORMATION CONTACT: Mr. Richard Clemente, FMCSA Driver and Carrier Operations Division; Office of Carrier, Driver and Vehicle Safety Standards; (202) 366-2722; richard.clemente@dot.gov. If you have questions on viewing or submitting material to the docket, contact Docket Services at (202) 366-9826.

SUPPLEMENTARY INFORMATION:

I. Public Participation

Viewing Comments and Documents

To view comments, go to www.regulations.gov, insert the docket number “FMCSA-2023-0185” in the keyword box, and click “Search.” Next, sort the results by “Posted (Newer-Older),” choose the first notice listed, and click “View Related Comments.”

If you do not have access to the internet, you may view the docket by visiting Dockets Operations on the ground floor of the DOT West Building, 1200 New Jersey Avenue SE, Washington, DC 20590, between 9 a.m. and 5 p.m., ET, Monday through Friday, except Federal holidays. To be sure someone is there to help you, please call (202) 366-9317 or (202) 366-9826 before visiting Dockets Operations.

II. Legal Basis

FMCSA has authority under 49 U.S.C. 31136(e) and 31315(b) to grant exemptions from certain Federal Motor Carrier Safety Regulations (FMCSRs). FMCSA must publish a notice of each exemption request in the Federal Register (49 CFR 381.315(a)). The Agency must provide the public an opportunity to inspect the information relevant to the application, including any safety analyses that have been conducted. The Agency must also provide an opportunity for public comment on the request.

The Agency reviews safety analyses and public comments submitted and determines whether granting the exemption would likely maintain a level of safety equivalent to, or greater than, the level that would be achieved by the current regulation (49 CFR 381.305(a)). The decision of the Agency must be published in the Federal Register (49 CFR 381.315(b)). If granted, the notice will identify the regulatory provision from which the applicant will be exempt, the effective period, and all terms and conditions of the exemption (49 CFR 381.315(c)(1)). If the exemption is denied, the notice will explain the reason for the denial (49 CFR 381.315(c)(2)). The exemption may be renewed (49 CFR 381.300(b)).

III. Background

Current Regulatory Requirements

The safe on-road driving skills applicants must possess and demonstrate to obtain a CDL for a vehicle class are identified in 49 CFR 383.113(c). Under 49 CFR 383.113(c)(2) and (4), CDL applicants must demonstrate, respectively, the ability to signal appropriately when changing direction in traffic and to choose a safe gap for changing lanes, passing other vehicles, and crossing or entering traffic.

As prescribed in 49 CFR 383.153(a)(10)(ix), a State has the discretion to impose restrictions on a CDL or create its own restrictions using additional codes for additional restrictions, as long as each such restriction code is fully explained on the front or back of the CDL document.

Applicant's Request

The State of Hawaii applied for an exemption from the requirements that a CDL applicant demonstrate the following safe on-road driving skills: the ability to signal appropriately when changing direction in traffic (49 CFR 383.113(c)(2)); and the ability to choose a safe gap for changing lanes, passing other vehicles, and crossing or entering traffic (49 CFR 383.113(c)(4). The applicant states that the islands of Lanai and Molokai do not have the highway infrastructure to support a demonstration of these safe on-road driving skills as required by 49 CFR 383.113(c)(2) and (4). The islands do not have at least two miles of a straight section of urban business street and at least two miles of an expressway or highway section with multiple lanes going in each direction to allow the ability to legally change lanes. The State of Hawaii proposed to establish a new CDL restriction “R,” limiting the CDL's validity to the islands of Lanai and Molokai only and would be applied to these drivers who pass a CDL skills test without demonstrating those two skills. The applicant stated that if it stops offering CDL road tests on both islands it will be a significant barrier for CDL applicants to meet all of the required skills test standards and obtain a CDL. Furthermore, there will be a negative economic impact on the communities' livelihood.

IV. Public Comments

On August 25, 2023, FMCSA published a notice of the State of Hawaii's application and requested public comment (88 FR 58434). The Agency received one comment that was not responsive to the request.

V. FMCSA Safety Analysis

The Agency believes allowing Hawaii to issue restricted CDLs to drivers operating a commercial motor vehicle (CMV) on the islands of Lanai and Molokai is likely to maintain a level of safety that is equivalent to, or greater than, the level of safety maintained without the exemption (49 CFR 381.305(a)). The exemption applies only to CDL applicants taking the skills test on the islands of Lanai and Molokai and limits these drivers to operating a CMV on those two islands only.

FMCSA reviewed the information in the State's application and the exhibits submitted including aerial and map views of the testing routes. The information provided by the State supports the State's assertion that the islands of Lanai and Molokai lack the highway infrastructure to permit CDL applicants to demonstrate their ability to signal appropriately when changing direction in traffic, and the ability to choose a safe gap for changing lanes, passing other vehicles, and crossing or entering traffic. Therefore, CDL applicants who drive a CMV only on the islands of Lanai and Molokai do not need to demonstrate those skills to obtain their restricted CDL.

VI. FMCSA Decision

FMCSA has evaluated the State of Hawaii's application for exemption and exhibits and the public comment. Based on its analysis, FMCSA hereby grants Hawaii an exemption from 49 CFR 383.113(c)(2) and (4) for CDL applicants taking the CDL skills test on the islands of Lanai and Molokai and allowing Hawaii to issue restricted CDLs limiting these drivers to operating a CMV on the islands of Lanai and Molokai. Allowing the State of Hawaii to conduct an abbreviated safe on-road driving skills test and issue restricted CDLs permitting the driver to operate a CMV only on the islands of Lanai and Molokai where the roadways do not require drivers to demonstrate such skills will bypass the infrastructure barriers CDL applicants on these two islands experience while establishing safeguards to maintain an equivalent level of safety.

VII. Exemption Decision

A. Grant of Exemption

FMCSA grants an exemption from 49 CFR 383.113(c)(2) and (c)(4) for a period of two years subject to the terms and conditions of this decision.

B. Applicability

The State of Hawaii may issue restricted CDLs under this exemption only to drivers who take the CDL skills test on the islands of Lanai and Molokai.

C. Terms and Conditions

The State of Hawaii and drivers operating under this exemption are subject to the following terms and conditions:

1. The State of Hawaii may waive only the following portions of the CDL skills test, as set forth in 49 CFR 383.113(c), that cannot be performed due to infrastructure limitations on the identified islands:

a. ability to signal appropriately when changing direction in traffic (49 CFR 383.113(c)(2)); and

b. ability to choose a safe gap for changing lanes, passing other vehicles, and for crossing or entering traffic (49 CFR 383.113(c)(4)).

2. The State of Hawaii must comply with 49 CFR 383.133(b) and 383.135(a) of the knowledge tests standards for testing procedures and methods set forth in 49 CFR part 383, subpart H, and must continue to administer knowledge tests that fulfill the content requirements of subpart G.

3. Drivers applying for a CDL to be issued under this exemption must take the CDL skills test on either the island of Lanai or Molokai.

4. Drivers issued a restricted CDL under this exemption may operate a CMV only on the islands of Lanai and or Molokai. The State of Hawaii must establish a new state CDL restriction, “R—Restriction”, with the following description printed on the back of the license “Restricted to Lanai and Molokai”. These restrictive CDLs will not be valid for use on Kauai, Oahu, Maui, Hawaii island, the U.S. Mainland and anywhere else U.S. CDLs are valid for use.

5. The drivers must comply with all other applicable Federal Motor Carrier Safety Regulations (49 CFR part 350-399).

6. The State of Hawaii must include notice on a restricted CDL issued pursuant to this exemption of the geographical area(s) in which the CDL holder may operate a commercial motor vehicle in accordance with 49 CFR 383.153(a)(10)(ix).

D. Preemption

In accordance with 49 U.S.C. 31315(d), as implemented by 49 CFR 381.600, during the period this exemption is in effect, no State shall enforce any law or regulation that conflicts with or is inconsistent with this exemption with respect to a person operating under the exemption.

E. Notification to FMCSA

The State of Hawaii must provide to FMCSA, upon request, a list of all drivers issued restricted CDLs under this exemption.

F. Termination

FMCSA does not believe that drivers covered by this exemption will experience any deterioration of their safety record. The Agency will, however, rescind the exemption if: (1) the State of Hawaii or drivers operating under the exemption fail to comply with the terms and conditions of the exemption; (2) the exemption results in a lower level of safety than was maintained before it was granted; or (3) continuation of the exemption would not be consistent with the goals and objective of 49 U.S.C. 31136(e) and 31315(b).

Sue Lawless,
Acting Deputy Administrator.

[FR Doc. 2024-03328 Filed 2-16-24; 8:45 am]

BILLING CODE 4910-EX-P